DEPARTMENT OF TRANSPORTATION

Federal Aviation Administration

Notice of Intent To Rule on Request To Release Airport Property at Lehigh Valley International Airport, Allentown, PA

AGENCY: Federal Aviation Administration (FAA), DOT.

ACTION: Notice of request to release airport property.

SUMMARY: The Federal Aviation Administration proposes to rule and invite public comment on the release of land at the Lehigh Valley International Airport, Allentown, Pennsylvania under the provisions of Section 47125(a) of Title 49 United States Code (U.S.C.).

The parcel is a generally north/south rectangular property whose south end of the parcel is located at the north end of Lynnwood Dr. The property is currently vacant land, under agricultural production, and is maintained to protect airspace surfaces of 14 CFR 77.19. The requested release is for the purpose of permitting the Airport Owner to convey title of 14.496 Acres as open space dedication to meet the conditions of an existing zone change (Resolution 07-08), and the Subdivision and Land Development Ordinance of Hanover Township in Northampton County, Pennsylvania. This release will enable the airport to implement the Noise Land Reuse Plan approved by the FAA on May 10, 2010.

Documents reflecting the Sponsor's request are available, by appointment only, for inspection at the Airport Manager's office and the FAA Harrisburg Airport District Office.

DATES: Comments must be received on or before July 28, 2011.

ADDRESSES: Documents are available for review at the Airport Director's office: Lehigh Northampton Airport Auth., 5311 Airport Road, Allentown, PA 18109-3040, 610-266-6001 voice, 610-264-0115 fax; and at the FAA Harrisburg Airports District Office: James M. Fels, Program Manager, Harrisburg Airports District Office, 3905 Hartzdale Dr., Suite 508, Camp Hill, PA 17011, (717) 730-2830.

FOR FURTHER INFORMATION CONTACT: James M. Fels, Harrisburg Airports District Office location listed above.

SUPPLEMENTARY INFORMATION: The parcel is a generally north/south rectangular parcel approximately 1,637ft by 540ft excluding the 795ft by 327ft rectangle of the south east quadrant. The south end of the parcel is located at the north end of Lynnwood Dr.

Legal Description: Lot 2—to Hanover Township for Current & Advance Open Space Dedication Purposes

A certain lot, piece or parcel of land, bounded and described as follows, to wit:

Beginning at a point on the right-of-way line of Innovation Way (60 feet wide);

Thence along lands now or late of Darbin T. & Deborah S. Skeans, S 08°25′08″ E, 851.93 feet to an iron pin found;

Thence along lands now or late of Hanover Township S 82°26′56″ W, 326.90 feet to a point;

Thence continuing along said lands S 08°08′33″ E, 795.39 feet to a point;

Thence along the Village View Gardens Subdivision S 82°12′34″ W, 217.20 feet to a point;

Thence along lands now or late of the Lehigh-Northampton Airport Authority N 08°08′33″ W, 1,636.50 feet to a point;

Thence continuing along said lands N 81°12′34″ E, 540.00 feet to a point, the place of beginning. containing: 14.496 acres.

And a rounded area located at the NE. corner of the above 14.496 acre tract:

A certain lot, piece or parcel of land, bounded and described as follows, to wit:

Beginning at a point in the corner along the lands now or late of Victor and Stephanie Warminsky and Darbin T. and Deborah S. Skeans;

Thence along the lands now or late of Darbin T. and Deborah S. Skeans S 08°25′08″ E passing through an iron pin found at 51.31 feet, a total distance of 111.31 feet to an iron pin found;

Thence through the lands now or late of the Lehigh-Northampton Airport Authority the following three (3) courses and distances:

1. S 81°12′34″ W, 128.79 feet to a point;

2. Along a curve to the right having a radius of 60.00 feet, a central angle of 188°03′23″, an arc length of 196.93 feet and the chord being N 05°32′31″ W, 119.70 feet to a point;

3. N 05°14′14″ W, 1.46 feet to a point;

Thence along the lands now or late of Victor and Stephanie Warminsky N 85°42′37″ E, 123.02 feet to a point, the place of beginning. Containing 0.477 acres (20,779 sq. feet).

The parcel was acquired without Federal participation. The requested release is for the purpose of permitting the Sponsor to sell and convey title of the subject 14.973 Acres to meet the conditions of an existing zone change (Resolution 07-08), and the open space dedication requirements of the Subdivision and Land Development Ordinance of Hanover Township in Northampton County Pennsylvania for future land sales or development leases of other airport owned parcels. This advance dedication of open space meets 93 percent of the total requirement for all of the developable land that may be released for sale, lease or rental in the future. Proceeds from the future sale, lease, or rental of property must be used for the capital and operating costs of the airport.

Interested persons are invited to comment on the proposed release from obligations. All comments will be considered by the FAA to the extent practicable.

Issued in Camp Hill, Pennsylvania, on June 17, 2011.
Lori K. Pagnanelli,
Manager, Harrisburg Airports District Office.

[FR Doc. 2011-16153 Filed 6-27-11; 8:45 am]

BILLING CODE 4910-13-P